DEPARTMENT OF ENERGY

Federal Energy Regulatory Commission

[Project No. 13704-002; Project No. 13701-002, et. al.]

Notice of Availability of Environmental Assessment

Arkabutla Lake Hydroelectric Project | [Project No. 13704-002]
Sardis Lake Hydroelectric Project | [Project No. 13701-002]
Enid Lake Hydroelectric Project | [Project No. 13703-002]
Grenada Lake Hydroelectric Project | [Project No. 13702-002]

In accordance with the National Environmental Policy Act of 1969 and the Federal Energy Regulatory Commission (Commission or FERC) regulations, 18 Code of Federal Regulations part 380, the Office of Energy Projects has reviewed applications for original licenses for the Arkabutla Lake Hydroelectric Project (FERC Project No. 13704-002), Sardis Lake Hydroelectric Project (FERC Project No. 13701-002), Enid Lake Hydroelectric Project (FERC Project No. 13703-002), and Grenada Lake Hydroelectric Project (FERC Project No. 13702-002). The proposed projects would be constructed at the U.S. Army Corps of Engineers' (Corps') existing Arkabutla, Sardis, Enid, and Grenada dams located within the Yazoo River Basin in Mississippi. The Arkabutla Lake Hydroelectric Project would be near the town of Hernando, Mississippi, in Tate and DeSoto Counties on the Coldwater River at river mile (RM) 86. The Sardis Lake Hydroelectric Project would be located near the town of Sardis, Mississippi, in Panola County on the Little Tallahatchie River at RM 69. The Enid Lake Hydroelectric Project would be located near the town of Enid, Mississippi, in Yalobusha County on the Yocona River at RM 14.5. The Grenada Lake Hydroelectric Project would be located near the town of Grenada, Mississippi, in Grenada County on the Yalobusha River at RM 47.3. The projects would occupy a total of 172.7 acres of federal land administered by the Corps.

Staff has prepared a multi-project environmental assessment (EA) that analyzes the potential environmental effects of constructing and operating the four projects. Based on staff's analysis with appropriate environmental protection measures, constructing and operating the projects would not constitute a major federal action that would significantly affect the quality of the human environment.

A copy of the EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, 202-502-8659.

You may also register online at http://www.ferc.gov/docs-filing/esubscription.asp to be notified via email of new filings and issuances related to these or other pending projects. For assistance, contact FERC Online Support.

Any comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include: “Arkabutla Lake Hydroelectric Project No. 13704-002, Sardis Lake Hydroelectric Project No. 13701-002, Enid Lake Hydroelectric Project No. 13703-002, and Grenada Lake Hydroelectric Project No. 13702-002” as appropriate, on the first page of any comments.

For further information, contact Jeanne Edwards at 202-502-6181 or by email at jeanne.edwards@ferc.gov.

Dated: September 30, 2015.
Kimberly D. Bose,
Secretary.

[FR Doc. 2015-25384 Filed 10-5-15; 8:45 am]

BILLING CODE 6717-01-P